DEPARTMENT OF ENERGY

Federal Energy Regulatory Commission

Combined Notice of Filings #2

Take notice that the Commission received the following electric corporate filings:

Docket Numbers: EC13-67-000.

Applicants: Wildcat Wind Farm I, LLC.

Description: Wildcat Wind Farm I, LLC withdraws request for confidential treatment of the investor identity, Antrim Corporation.

Filed Date: 2/11/13.

Accession Number: 20130211-5132.

Comments Due: 5 p.m. ET 2/21/13.

Take notice that the Commission received the following electric rate filings:

Docket Numbers: ER13-916-000.

Applicants: Public Service Company of New Mexico.

Description: PNM filing of Revised Attachment EIP to be effective 1/16/2013.

Filed Date: 2/11/13.

Accession Number: 20130211-5077.

Comments Due: 5 p.m. ET 3/4/13.

Docket Numbers: ER13-917-000.

Applicants: PJM Interconnection, L.L.C.

Description: PJM Interconnection, L.L.C. submits notice of cancellation of Wholesale Market Participant Service Agreement No. 2445.

Filed Date: 2/11/13.

Accession Number: 20130211-5095.

Comments Due: 5 p.m. ET 3/4/13.

Docket Numbers: ER13-918-000.

Applicants: PJM Interconnection, L.L.C.

Description: PJM Interconnection, L.L.C. submits notice of cancellation of Wholesale Market Participant Service Agreement No. 2446.

Filed Date: 2/11/13.

Accession Number: 20130211-5099.

Comments Due: 5 p.m. ET 3/4/13.

Docket Numbers: ER13-919-000.

Applicants: PJM Interconnection, L.L.C.

Description: PJM Interconnection, L.L.C. submits tariff filing per 35.13(a)(2)(iii: Revisions to the “OATT” and TOA re HTP Facilities to be effective 4/12/2013.

Filed Date: 2/11/13.

Accession Number: 20130211-5154.

Comments Due: 5 p.m. ET 3/4/13.

Docket Numbers: ER13-920-000.

Applicants: PJM Interconnection, L.L.C.

Description: PJM Interconnection, L.L.C. submits tariff filing per 35.13(a)(2)(iii: Revisions to the OATT and “TOA” re HTP Facilities to be effective 4/12/2013.

Filed Date: 2/11/13.

Accession Number: 20130211-5158.

Comments Due: 5 p.m. ET 3/4/13.

Docket Numbers: ER13-921-000.

Applicants: Midwest Independent Transmission System Operator, Inc.

Description: Midwest Independent Transmission System Operator, Inc. submits tariff filing per 35.13(a)(2)(iii: 2013-11-02 Schd 28 ORDC Filing to be effective 5/1/2013.

Filed Date: 2/11/13.

Accession Number: 20130211-5177.

Comments Due: 5 p.m. ET 3/4/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2013.
Nathaniel J. Davis, Sr.,
Deputy Secretary.

[FR Doc. 2013-03712 Filed 2-15-13; 8:45 am]

BILLING CODE 6717-01-P